Proclamation 7954 of November 2, 2005

National Hospice Month, 2005

By the President of the United States of America

A Proclamation

The great strength of America lies in the hearts and souls of our citizens. During National Hospice Month, we recognize hospice caregivers who are building a more compassionate society, where life is valued and those in need can count on the love and support of others. We also recognize the courage and strength of terminally ill patients and their families.

When we help those who hurt and those in pain, we become part of our Nation's armies of compassion. Hospice programs provide an option for individuals with terminal illnesses to be cared for as they choose in their final days, often in their own homes and surrounded by the love of their families. The doctors, nurses, counselors, volunteers, and others who provide hospice care throughout our country bring comfort to those most in need every day, treating terminally ill patients with the dignity and respect they deserve. By dedicating themselves to the care of those approaching the end of life, they demonstrate great love.

The compassion reflected in hospice care is one of the reasons America has the best health care system in the world. Our whole Nation is grateful for the good work of our dedicated medical professionals and hospice caregivers. By taking the time to care for others, they are making America a better place.

NOW, THEREFORE, I, GEORGE W. BUSH, President of the United States of America, by virtue of the authority vested in me by the Constitution and laws of the United States, do hereby proclaim November 2005 as National Hospice Month. I encourage all our citizens to observe this month with appropriate programs and activities. I also ask Americans to recognize our health careprofessionals and volunteers for their contributions to helping those facing terminal illness receive quality care.

IN WITNESS WHEREOF, I have hereunto set my hand this second day of November, in the year of our Lord two thousand five, and of the Independence of the United States of America the two hundred and thirtieth.

B

[FR Doc. 05-22203

Filed 11-3-05; 10:58 am]

Billing code 3195-01-P